DEPARTMENT OF AGRICULTURE

Forest Service

Sanders Resource Advisory Committee

AGENCY: Forest Service, Agriculture (USDA).

ACTION: Notice of meeting.

SUMMARY: The Sanders Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act, as well as to make recommendations on recreation fee proposals for sites on Lolo and Kootenai National Forests within Sanders County, consistent with the Federal Lands Recreation Enhancement Act. RAC information can be found at the following website: https://www.fs.usda.gov/detail/lolo/workingtogether/advisorycommittees/?cid=fsm9_021467.

DATES: The meeting will be held on December 14, 2021, 5:00 p.m.-7:00 p.m. Mountain Standard Time.

All RAC meetings are subject to cancellation. For status of the meeting prior to attendance, please contact the person listed under For Further Information Contact.

ADDRESSES: The meeting will be held virtually via telephone and/or video conference.

Members of the public may participate in the meeting by using the following Microsoft Teams meeting link: MS Teams Meeting Link or call in (audio only) +1 202-650-0123, Phone Conference ID: 817 903 769#.

Written comments may be submitted as described under Supplementary Information. All comments, including names and addresses when provided, are placed in the record and are available for public inspection and copying. The public may inspect comments received upon request.

FOR FURTHER INFORMATION CONTACT: David Wrobleski, Designated Federal Official and Plains/Thompson Falls District Ranger, by phone at 406-203-8947 or email at david.wrobleski@usda.gov or Robin Jermyn, RAC Coordinator, by phone at 406-360-5936 or via email at robin.jermyn@usda.gov.

Individuals who use telecommunication devices for the deaf/hard-of-hearing (TDD) may call the Federal Relay Service (FRS) at 1-800-877-8339 24 hours a day, every day of the year, including holidays.

SUPPLEMENTARY INFORMATION: The purpose of the meeting is to:

1. Approve minutes from previous meeting;

2. Review, rank and recommend proposals for Title II funding; and

3. Open forum for public discussion.

The meeting is open to the public. The agenda will include time for people to make oral statements of three minutes or less. Individuals wishing to make an oral statement should request in writing by November 29, 2021, to be scheduled on the agenda. Anyone who would like to bring related matters to the attention of the committee may file written statements with the committee staff before or after the meeting. Written comments and requests for time for oral comments must be sent to Robin Jermyn, RAC Coordinator, P.O. Box 429, Plains, Montana 59859, by email to robin.jermyn@usda.gov, or via facsimile to 406-826-4358.

Meeting Accommodations: Please make requests in advance for sign language interpreter services, assistive listening devices, or other reasonable accommodation. For access to proceedings, please contact the person listed in the section titled For Further Information Contact. All reasonable accommodation requests are managed on a case-by-case basis.

Equal opportunity practices, in line with USDA policies, will be followed in all membership appointments to the RAC. To help ensure that recommendations of the RAC have taken into account the needs of the diverse groups served by the Department, membership shall include, to the extent practicable, individuals with demonstrated ability to represent minorities, women, and persons with disabilities.

The USDA prohibits discrimination in all of its programs and activities on the basis of race, color, national origin, religion, sex, gender identity (including gender expression), sexual orientation, disability, age, marital status, family/parental status, political beliefs, income derived from a public assistance program, or reprisal or retaliation for prior civil rights activity in any program or activity conducted or funded by USDA (not all bases apply to all programs).

Dated: November 24, 2021.
Cikena Reid,
USDA Committee Management Officer.

[FR Doc. 2021-26093 Filed 11-30-21; 8:45 am]

BILLING CODE 3411-15-P